DEPARTMENT OF HEALTH AND HUMAN SERVICES

Administration for Children and Families Administration on Developmental Disabilities

AGENCY: Administration on Developmental Disabilities, Administration for Children and Families.

ACTION: Single-Source Non-Competitive Continuation Award.

CFDA Number: 93.632.

Legislative Authority: Public Law (Pub. L.) 106-402, Developmental Disabilities Assistance and Bill of Rights Act of 2000.

Amount of Award: $60,000 for one year.

Project Period: 09/30/2006—09/29/2007.

This notice announces the award of a single-source non-competition continuation award to the Texas Center for Disability Studies, University of Texas, Austin (the Center) to address the needs of underserved and unserved individuals affected by Hurricane Katrina.

Lessons learned from Hurricane Katrina reflected that there was insufficient capacity in relief efforts to address the needs of individuals with developmental disabilities during and following the hurricane. With this award this Center, which currently has a grant from the Administration on Developmental Disabilities (ADD) to operate a University Center for Excellence in Developmental Disabilities (UCEDD), will expand its mission to address gaps in the Texas disaster relief efforts and the subsequent services to people with developmental disabilities. This proposed project is consistent with the Developmental Disabilities Assistance and Bill of Rights Act, which among other provisions, requires that UCEDDs assist underserved and unserved populations of individuals with developmental disabilities and their families through community outreach, capacity building, and systems change.

The proposed project will develop and conduct training around Texas that will increase emergency preparedness by creating a pool of disaster response systems navigators ready and able to assist individuals with developmental disabilities and their families in a disaster. The navigators will be trained to navigate both State and local health and human service systems in order to quickly identify and access services for the targeted individuals. The navigator model proposed could easily be adapted by other States to improve their emergency readiness as well.

The outcomes of this project will strengthen Texas' ability to respond to the needs of individuals with developmental disabilities in the event of a disaster by:

1. Expanding awareness of the needs of individuals with developmental disabilities in the event of a disaster.

2. Expanding the pool of volunteer disaster response navigators for individuals with developmental disabilities.

3. Creating a data base of these navigators for the Red Cross, so that these navigators may be mobilized with other first response teams.

4. Expanding the State's disaster relief plan to include the emergency services and supports needed by individuals with developmental disabilities.

For Further Information Contact: Jennifer Johnson, Administration on Developmental Disabilities, Administration for Children and Families, U.S. Department of Health and Human Services, 370 L'Enfant Promenade, SW., MAIL STOP: Humphrey Building, 405D, Washington, DC 20447. Telephone: 202-690-5982.

Dated: September 27, 2006.
Patricia A. Morrissey,
Commissioner, Administration on Developmental Disabilities.

[FR Doc. E6-16355 Filed 10-3-06; 8:45 am]

BILLING CODE 4184-01-P